DEPARTMENT OF COMMERCE

International Trade Administration

The President's Export Council: Meeting of the President's Export Council

AGENCY: International Trade Administration, U.S. Department of Commerce.

ACTION: Notice of an Open Meeting via Teleconference.

SUMMARY: The President's Export Council will hold a meeting via teleconference to deliberate a draft letter of recommendation to the President.

DATES: August 23, 2007.

Time: 9 a.m. (EDT).

For the Conference Call-In Number and Further Information, Contact: The President's Export Council Executive Secretariat, Room 4043, Washington, DC 20230 (Phone: 202-482-1124), or visit the PEC Web site, www.ita.doc.gov/td/pec.

Dated: August 8, 2007.
J. Marc Chittum,
Executive Secretary and Staff Director, President's Export Council.

[FR Doc. 07-3946 Filed 8-10-07; 8:45 am]

BILLING CODE 3510-DR-P